DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Assessment of the Impact of the National Practitioner Data Bank—NEW

Under the Health Resources and Services Administration (HRSA), Bureau of Health Professions (BHPr), the Division of Quality Assurance (DQA) is planning to conduct a survey to obtain information on the degree of user satisfaction with the National Practitioner Data Bank's (NPDB) querying and reporting processes, how users believe these processes can be improved, and how users perceive the usefulness of information they obtained from the NPDB for licensing and credentialing of health care entities, e.g. managed care organizations, State licensing boards for physicians and dentists, and professional societies. The study will also identify and survey non user entities. The information obtained in this study will be interpreted in relation to similar information from previous studies conducted by the DQA and the Office of the Inspector General.

The estimated response burden is as follows:

Questionnaire version | Number of respondents | Responses per respondent | Total responses | Hours per response | Total burden hours
Users Survey
Reporting:
Hospital | 1031 | 1 | 1031 | .25 | 257.8
Group Practice | 210 | 1 | 210 | .25 | 52.5
HMOs | 161 | 1 | 161 | .25 | 40.3
State Boards | 81 | 1 | 81 | .25 | 20.3
Malpractice Payers | 188 | 1 | 188 | .25 | 47.0
Professional Societies | 67 | 1 | 67 | .25 | 16.8
Other | 209 | 1 | 209 | .25 | 52.3
Querying:
Hospital | 770 | 1 | 770 | .4 | 308
Group Practice | 173 | 1 | 173 | .4 | 69.2
HMOs | 153 | 1 | 153 | .4 | 61.2
State Boards | 74 | 1 | 74 | .4 | 29.6
Malpractice Payers | * |  |  |  |
Professional Societies | 66 | 1 | 66 | .4 | 26.4
Other | 184 | 1 | 184 | .4 | 73.6
Match Responses:
Hospital | 770 | 2.6 | 2002 | .33 | 660.7
Group Practice | 173 | 2.8 | 484.4 | .33 | 159.9
HMOs | 153 | 2.2 | 336.6 | .33 | 111.1
State Boards | 74 | 2.2 | 162.8 | .33 | 53.7
Malpractice Payers | * |  |  |  |
Professional Societies | 66 | 2.0 | 132 | .33 | 43.6
Other | 184 | 1.9 | 349.6 | .33 | 115.4
Non-Users Survey
Version/Entity Type:
Hospital |  |  |  |  |
Group Practice | 113 | 1 | 113 | .1 | 11.3
HMOs | 151 | 1 | 151 | .1 | 15.1
State Boards |  |  |  |  |
Malpractice Payers |  |  |  |  |
Professional Societies | 113 | 1 | 113 | .1 | 11.3
Other | 113 | 1 | 113 | .1 | 11.3
Total Users | 2,366 |  | 6,834 |  | 2,199
Total Non-Users | 490 |  | 490 |  | 49
Total Users and Non-Users | 2,856 |  | 7,324 |  | 2,248
* Cannot query the NPDB; thus these entities do not receive querying or match response questionnaires.
**These are the unduplicated numbers of entities required for the surveys.

Written comments and recommendations concerning the proposed information collection should be sent within 30 days of this notice to: Wendy A. Taylor, Human Resources and Housing Branch, Office of Management and Budget, New Executive Office Building, Room 10235, Washington, DC 20503.

Dated: January 14, 2000.
James J. Corrigan,
Associate Administrator for Management and Program Support.

[FR Doc. 00-1533 Filed 1-21-00; 8:45 am]

BILLING CODE 4160-15-U